DEPARTMENT OF THE TREASURY

Internal Revenue Service

26 CFR Part 1

[TD 9590]

RIN 1545-BJ82

Health Insurance Premium Tax Credit; Correction

AGENCY: Internal Revenue Service (IRS), Treasury.

ACTION: Correcting amendment.

SUMMARY: This document contains corrections to final regulations (TD 9590) that were published in the Federal Register on Wednesday, May 23, 2012 (77 FR 30377). The final regulations relate to the health insurance premium tax credit enacted by the Patient Protection and Affordable Care Act and the Health Care and Education Reconciliation Act of 2010.

DATES: This correction is effective on July 12, 2012 and is applicable May 23, 2012.

FOR FURTHER INFORMATION CONTACT: Shareen S. Pflanz, (202) 622-4920 (not a toll free number).

SUPPLEMENTARY INFORMATION:

Background

The final regulations that are the subject of this document are under section 36B of the Internal Revenue Code.

Need for Correction

As published, the final regulations (TD 9590) contain errors that may prove to be misleading and are in need of clarification.

List of Subjects in 26 CFR Part 1

Income taxes, Reporting and recordkeeping requirements.

Correction of Publication

Accordingly, 26 CFR part 1 is corrected by making the following correcting amendments:

PART 1—INCOME TAXES

Paragraph 1. The authority citation for part 1 continues to read in part as follows:

Authority: 26 U.S.C. 7805 * * *

Par. 2. Section 1.36B-3(g)(3) is amended by revising the first sentence of Example 1 to read as follows:

§ 1.36B-3 Computing the premium assistance credit amount.

* * * * *

(g) * * *

(3) * * *

Example 1. A's household income is 275 percent of the Federal Poverty line for A's family size for that taxable year. * * *

* * * * *

Par. 3. Section 1.36B-4(b)(6) is amended by revising the first sentence of Example 5. (ii) to read as follows:

§ 1.36B-4 Reconciling the premium tax credit with advance credit payments.

* * * * *

(b) * * *

(6) * * *

Example 5 * * *

(ii) Because R's and S's premium tax credit of $3,484 exceeds their advance credit payments of $2,707, R and S are allowed an additional credit of $777. * * *

* * * * *

Diane Williams,
Federal Register Liaison, Publications and Regulations Branch, Legal Processing Division, Associate Chief Counsel (Procedure and Administration).

[FR Doc. 2012-16986 Filed 7-11-12; 8:45 am]

BILLING CODE 4830-01-P